DEPARTMENT OF HOMELAND SECURITY

U.S. Customs and Border Protection

[USCBP-2007-0060]

Notice of Availability of a Draft Programmatic Environmental Assessment on the Western Hemisphere Travel Initiative at Land and Sea Ports of Entry

AGENCY: U.S. Customs and Border Protection, Department of Homeland Security.

ACTION: Notice of Availability.

SUMMARY: This Notice of Availability announces that a draft Programmatic Environmental Assessment (PEA) for the Western Hemisphere Travel Initiative (WHTI) at land and sea ports of entry is available for public review and comment. The draft PEA documents a review of the potential environmental impacts from changes to technology and operations to meet the requirements for standardized, secure travel documents under WHTI.

DATES: The draft PEA will be available for public review and comment for a period of 30 days beginning on the date this document is published in the Federal Register. Copies of the draft PEA may be obtained by telephone request (202-344-1589) or by accessing the following Internet addresses: http://www.cbp.gov/travel and http://www.regulations.gov. Comments regarding the draft PEA may be submitted as set forth in the ADDRESSES section of this document.

ADDRESSES: Copies of the draft PEA may be obtained from U.S. Customs and Border Protection (CBP) through the Internet at http://www.cbp.gov/travel and http://www.regulations.gov or by writing to: CBP, 1300 Pennsylvania Avenue, NW., Room 5.4C, Attn: WHTI Environmental Assessment, Washington, DC 20229.

You may submit comments on the draft PEA, by one of the following methods:

• Federal eRulemaking Portal: http://www.regulations.gov. Follow the instructions for submitting comments.

• Mail: Comments by mail are to be addressed to U.S. Customs and Border Protection, 1300 Pennsylvania Avenue, NW., Room 5.4C, Attn: WHTI Environmental Assessment, Washington, DC 20229.

Instructions: All submissions must include the agency name and draft PEA docket number “USCBP-2007-0060.” All comments will be posted without change to http://www.regulations.gov, including any personal information sent with each comment.

FOR FURTHER INFORMATION CONTACT: Patrick Howard, U.S. Customs and Border Protection, 1300 Pennsylvania Avenue, NW., Room 5.4C, Washington, DC 20229, 202-344-1589, e-mail address: Patrick.Howard@associates.dhs.gov, or Pat Sobol, U.S. Customs and Border Protection, 1300 Pennsylvania Avenue, NW., Room 5.4C, Washington, DC 20229, 202-344-1381, e-mail address: Pat.Sobol@dhs.gov.

SUPPLEMENTARY INFORMATION:

Background

The Western Hemisphere Travel Initiative

The Intelligence Reform and Terrorism Prevention Act of 2004 (IRTPA), as amended, provides that upon full implementation, U.S. citizens and Bermudian, Canadian and Mexican citizens and nationals would be required to present a passport or such alternative documents as the Secretary of Homeland Security designates as satisfactorily establishing identity and citizenship upon entering the United States. In a notice of proposed rulemaking (NPRM) to be published in the Federal Register, the Department of Homeland Security (DHS) and Department of State (DOS) describe the second phase of a joint plan, known as the Western Hemisphere Travel Initiative (WHTI), to implement these new requirements. The NPRM proposes the specific documents that U.S. citizens and nonimmigrant aliens from Canada, Bermuda, and Mexico would be required to present when entering the United States at sea and land ports-of-entry from Western Hemisphere countries.

DHS and CBP have analyzed the potential impacts on the human environment of several alternate ways of implementing WHTI based on technological and operational considerations as part of the decision-making process regarding the implementation of WHTI at sea and land ports of entry. The impact analysis in the draft Programmatic Environmental Assessment (PEA), as explained in the report, focuses primarily on the effects of implementing WHTI at land ports of entry because the land environment is the most sensitive to the proposed document and technological changes associated with implementation of WHTI.¹

¹ Changes to processing travelers at sea ports of entry would happen entirely within existing buildings and other infrastructure, so no environmental impacts are anticipated.

Four technological and operational alternatives are analyzed in the PEA that meet the requirements to define and process secure, standardized travel documents under WHTI. The four alternatives are: (1) Maintaining the status quo by continuing current processes for assessing individuals with multiple documents; (2) implementing standardized features and limiting the number of documents accepted for entry into the United States; (3) defining and enhancing a limited number of standardized acceptable documents with machine readable zone (MRZ) technology; and/or (4) defining and enhancing a limited number of standardized acceptable documents with MRZ and radio-frequency identification (RFID) technologies at the top volume land ports of entry. The potential impacts evaluated include air quality, noise, and environmental justice, among others.

Next Steps

This process is being conducted pursuant to the National Environmental Policy Act of 1969 (NEPA), the Council on Environmental Quality (CEQ) Regulations for Implementing the NEPA (40 CFR parts 1500-1508), and Department of Homeland Security Management Directive 5100.1, Environmental Planning Program of April 19, 2006.

Substantive comments concerning environmental impacts received from the public and agencies during the comment period will be evaluated to determine whether further environmental impact review is needed in order to publish the final PEA. Should CBP determine that the implementation of the proposed action or alternatives would not have a significant impact on the environment, it will prepare a Finding of No Significant Impact (FONSI). The FONSI would be published in the Federal Register and in newspapers of general circulation in border areas along the border with both Canada and Mexico.

Should CBP determine that significant environmental impacts exist due to the plan, CBP would proceed with preparation of an Environmental Impact Statement (EIS).

Dated: June 19, 2007.
Thomas S. Winkowski,
Acting Assistant Commissioner, Office of Field Operations.

[FR Doc. E7-12274 Filed 6-22-07; 8:45 am]

BILLING CODE 9111-14-P